Title 3—

The President

Proclamation 9729 of April 26, 2018

World Intellectual Property Day, 2018

By the President of the United States of America

A Proclamation

On World Intellectual Property Day, we not only celebrate invention and innovation, but also we recognize how integral intellectual property rights are to our Nation's economic competitiveness. Intellectual property rights support the arts, sciences, and technology. They also create the framework for a competitive market that leads to higher wages and more jobs for everyone. The United States is committed to protecting the intellectual property rights of our companies and ensuring a level playing field in the world economy for our Nation's creators, inventors, and entrepreneurs.

Our country will no longer turn a blind eye to the theft of American jobs, wealth, and intellectual property through the unfair and unscrupulous economic practices of some foreign actors. These practices are harmful not only to our Nation's businesses and workers but to our national security as well. Intellectual property theft is estimated to cost our economy as much as $600 billion a year. To protect our economic and national security, I have directed Federal agencies to aggressively respond to the theft of American intellectual property. In combatting this intellectual property theft, and in enforcing fair and reciprocal trade policy, we will protect American jobs and promote global innovation.

While we continue to demand the protection of intellectual property rights abroad, my Administration will also take steps to strengthen our patent system here at home. A system that increases the reliability and enforceability of patents will encourage even more investment in creative and innovative industries, leading to job and wealth creation for all Americans. When the United States advances pro-growth policies of this form, we set an example of protecting economic competitiveness, promoting new engines of growth, and prioritizing the expansion of innovative and creative capacities overall.

This year's World Intellectual Property Day is dedicated to celebrating all of the industrious and brilliant women who have changed, and who continue to change, the world with their inventions, innovations, and other creative contributions to society. Our Nation's economic strength and prosperity would not be so without the over 75 million women in our country's workforce, whose ingenuity, initiative, and hard work have helped foster the growth and progress of America's economy since our formation. Over the past decade, the number of women-owned firms has grown five times faster than the national average for all firms. American women are assuming leading roles in health, business and finance, the arts, and the STEM fields. We must protect the intellectual property rights of these women creators, inventors, and entrepreneurs in order to promote further innovation for years to come.

A new era of American exceptionalism is dawning, in the form of sustained intellectual property rights and continued American entrepreneurship. The drive for excellence, advancement, and innovation in the United States has brought forth significant discoveries, developed life-saving research, and improved the quality of life for millions of Americans. On this World Intellectual Property Day, we celebrate the creative spirit and contributions of American men and women, and we acknowledge the necessity of maintaining intellectual property rights for all those enterprising individuals who dare to invent or create something new for the betterment of all people.

NOW, THEREFORE, I, DONALD J. TRUMP, President of the United States of America, by virtue of the authority vested in me by the Constitution and the laws of the United States, do hereby proclaim April 26, 2018, as World Intellectual Property Day. I encourage Americans to observe this day with events and educational programs that celebrate the benefits of intellectual property to our economy and our country.

IN WITNESS WHEREOF, I have hereunto set my hand this twenty-sixth day of April, in the year of our Lord two thousand eighteen, and of the Independence of the United States of America the two hundred and forty-second.

[FR Doc. 2018-09363

Filed 4-30-18; 11:15 am]

Billing code 3295-F8-P